DEPARTMENT OF HOMELAND SECURITY

Federal Emergency Management Agency

44 CFR Part 65

[Docket ID FEMA-2011-0002; Internal Agency Docket No. FEMA-B-1215]

Changes in Flood Elevation Determinations

Correction

In rule document 2011-24275 appearing on pages 58409-58411 in the issue of Wednesday, September 21, 2011, make the following correction:

§ 65.4 [Corrected]

1. On page 58410, in the table, in the first column, below the eight row, the table should appear as follows:

Texas:
Collin | City of Plano (10-06-0997P) | June 23, 2011; June 30, 2011; The Plano Star Courier | The Honorable Phil Dyer, Mayor, City of Plano, 1520 Avenue K, Plano, TX 75074 | August 31, 2010 | 480140

[FR Doc. C1-2011-24275 Filed 4-6-12; 8:45 am]

BILLING CODE 1505-01-D